DEPARTMENT OF LABOR

Employment and Training Administration

[TA-W-57,320]

Sabre, Inc., Travel Network North America Division, Southlake, TX; Dismissal of Application for Reconsideration

Pursuant to 29 CFR 90.18(C) an application for administrative reconsideration was filed with the Director of the Division of Trade Adjustment Assistance for workers at Sabre, Inc., Travel Network North America Division, Southlake, Texas. The application contained no new substantial information which would bear importantly on the Department's determination. Therefore, dismissal of the application was issued.

TA-W-57,320; Sabre, Inc. Travel Network North America Division Southlake, Texas (August 19, 2005)

Signed at Washington, DC, this 19th day of August, 2005.
Timothy Sullivan,
Director, Division of Trade Adjustment Assistance.

[FR Doc. E5-4672 Filed 8-25-05; 8:45 am]

BILLING CODE 4510-30-P